DEPARTMENT OF THE INTERIOR

National Park Service

Notice of Inventory Completion for Native American Human Remains and Associated Funerary Objects in the Possession of the Palmer Foundation for Chiropractic History, Palmer College of Chiropractic, Davenport, IA

AGENCY: National Park Service, Interior.

ACTION: Notice.

Notice is hereby given in accordance with provisions of the Native American Graves Protection and Repatriation Act (NAGPRA), 43 CFR 10.9, of the completion of an inventory of human remains and associated funerary objects in the possession of the Palmer Foundation for Chiropractic History, Davenport, IA.

This notice is published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains was made by Palmer Foundation for Chiropractic History professional staff in consultation with representatives of the Seneca-Cayuga Tribe of Oklahoma, the Tonawanda Band of Seneca Indians of New York, the Haudenosaunee Standing Committee on Burials and Regulations, and the Seneca Nation of New York.

At an unknown time prior to 1960, human remains representing one individual were removed from an unknown location in Baldwinsville, NY, by unknown persons. They were donated to the Palmer School of Chiropractic prior to 1960 by an unknown person. No known individual was identified. No associated funerary objects are present.

Museum records and osteological characteristics identify these human remains as Native American. The degree of preservation of these remains indicates a date of burial within the last millennium. Consultation with representatives of the Seneca Nation of New York indicates that Baldwinsville, NY, is located within the traditional territory of the Seneca people, and indicates that a relationship exists between these human remains and the Seneca people. Officials of the Palmer Foundation for Chiropractic History have found it reasonable to affiliate these remains, based on consultation results, with the Seneca-Cayuga Tribe of Oklahoma, the Tonawanda Band of Seneca Indians of New York, and the Seneca Nation of New York.

Based on the above-mentioned information, officials of the Palmer Foundation for Chiropractic History have determined that, pursuant to 43 CFR 10.2 (d)(1), the human remains listed above represent the physical remains of one individual of Native American ancestry. Officials of the Palmer Foundation for Chiropractic History also have determined that, pursuant to 43 CFR 10.2(e), there is a relationship of shared group identity that can be reasonably traced between these Native American human remains and the Seneca-Cayuga Tribe of Oklahoma, the Tonawanda Band of Seneca Indians of New York, and the Seneca Nation of New York.

This notice has been sent to officials of the Seneca-Cayuga Tribe of Oklahoma, the Tonawanda Band of Seneca Indians of New York, the Haudenosaunee Standing Committee on Burials and Regulations, and the Seneca Nation of New York. Representatives of any other Indian tribe that believes itself to be culturally affiliated with these human remains should contact Alana Callender, Palmer Foundation for Chiropractic History, Palmer College of Chiropractic, 1000 Brady Street, Davenport, IA 52803, telephone (319) 884-5404, before December 21, 2000. Repatriation of the human remains to the Seneca-Cayuga Tribe of Oklahoma, the Tonawanda Band of Seneca Indians of New York, and the Seneca Nation of New York may begin after that date if no additional claimants come forward.

Dated: November 16, 2000.
John Robbins,
Assistant Director, Cultural Resources, Stewardship, and Partnerships.

[FR Doc. 00-29813 Filed 11-20-00; 8:45 am]

BILLING CODE 4310-70-F